DEPARTMENT OF TRANSPORTATION

Federal Aviation Administration

14 CFR Part 39

[Docket No. 2000-NM-239-AD; Amendment 39-12434; AD 2001-18-08]

RIN 2120-AA64

Airworthiness Directives; Boeing Model 767-300 Series Airplanes Modified by Supplemental Type Certificate SA7019NM-D

AGENCY: Federal Aviation Administration, DOT.

ACTION: Final rule.

SUMMARY: This amendment adopts a new airworthiness directive (AD), applicable to all Boeing Model 767-300 series airplanes modified by supplemental type certificate SA7019NM-D, that requires modification of the in-flight entertainment (IFE) system to install a switch to remove power from the IFE system, and revision of flight crew and cabin crew procedures. This action is necessary to ensure that the flight crew and cabin crew are able to remove electrical power from the IFE system when necessary and are advised of appropriate procedures for such action. Inability to remove power from the IFE system during a non-normal or emergency situation could result in inability to control smoke or fumes in the airplane flight deck or cabin. This action is intended to address the identified unsafe condition.

DATES: Effective October 11, 2001.

The incorporation by reference of certain publications listed in the regulations is approved by the Director of the Federal Register as of October 11, 2001.

ADDRESSES: The service information referenced in this AD may be obtained from BFGoodrich Aerospace, 3100 112th Street SW., Everett, Washington 98204-3500. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Stephen S. Oshiro, Aerospace Engineer, Systems and Equipment Branch, ANM-130S, FAA, Seattle Aircraft Certification Office, 1601 Lind Avenue, SW., Renton, Washington 98055-4056; telephone (425) 227-2793; fax (425) 227-1181.

SUPPLEMENTARY INFORMATION: A proposal to amend part 39 of the Federal Aviation Regulations (14 CFR part 39) to include an airworthiness directive (AD) that is applicable to all Boeing Model 767-300 series airplanes modified by supplemental type certificate SA7019NM-D was published in the Federal Register on June 28, 2001 (66 FR 34377). That action proposed to require modification of the in-flight entertainment (IFE) system to install a switch to remove power from the IFE system and revision of flight crew and cabin crew procedures.

Comments

Interested persons have been afforded an opportunity to participate in the making of this amendment. No comments were submitted in response to the proposal or the FAA's determination of the cost to the public.

Conclusion

The FAA has determined that air safety and the public interest require the adoption of the rule as proposed.

Cost Impact

None of the airplanes affected by this AD are on the U.S. Register. All airplanes included in the applicability of this AD currently are operated by non-U.S. operators under foreign registry; therefore, they are not directly affected by this AD. However, the FAA considers that this AD is necessary to ensure that the unsafe condition is addressed in the event that any of these subject airplanes are imported and placed on the U.S. Register in the future.

Should an affected airplane be imported and placed on the U.S. Register in the future, it will take approximately 40 work hours per airplane to accomplish the required modification, at an average labor rate of $60 per work hour. Required parts will cost approximately $2,740 per airplane. Based on these figures, the cost impact of the required modification would be $5,140 per airplane.

Should an affected airplane be imported and placed on the U.S. Register in the future, it will take approximately 1 work hour per airplane to accomplish the required manual revisions, at an average labor rate of $60 per work hour. Based on these figures, the cost impact of the required manual revisions would be $60 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-18-08 Boeing: Amendment 39-12434. Docket 2000-NM-2309-AD.

Applicability: Model 767-300 series airplanes modified by supplemental type certificate (STC) SA7019NM-D, dated July 14, 1995; certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To ensure that the flight crew and cabin crew are able to remove electrical power from the in-flight entertainment (IFE) system when necessary and are advised of appropriate procedures for such action, accomplish the following:

Modification and Manual Revisions

(a) Within 18 months after the effective date of this AD, accomplish paragraphs (a)(1) and (a)(2) of this AD.

(1) Install a master power control switch for the video system and associated wiring, in accordance with BFGoodrich Engineering Order 23-32-767-031, dated August 16, 2000.

(2) Following installation of the master power control switch in accordance with paragraph (a)(1) of this AD, prior to further flight, insert BFGoodrich 767 Flight Attendant Manual Supplement D2000-160, dated August 16, 2000, into the Flight Attendant Manual, and insert BFGoodrich B767 Airplane Flight Manual (AFM) Supplement D2001-025, dated February 26, 2001, into the Emergency Procedures section of the AFM.

Spares

(b) As of the effective date of this AD, no person shall install an IFE system in accordance with STC SA7019NM-D, dated July 14, 1995, on any airplane, unless it is modified, and the Flight Attendant Manual and AFM are revised, in accordance with this AD.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 2: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with BFGoodrich Engineering Order 23-32-767-031, including Parts List Attachment and Wire List Attachment, dated August 16, 2000; BFGoodrich 767 Flight Attendant Manual Supplement D2000-160, dated August 16, 2000; and BFGoodrich B767 Airplane Flight Manual Supplement D2001-025, dated February 26, 2001. This incorporation by reference was approved by the Director of the Federal Register in accordance with 5 U.S.C. 552(a) and 1 CFR part 51. Copies may be obtained from BFGoodrich Aerospace, 3100 112th Street SW., Everett, Washington 98204-3500. Copies may be inspected at the FAA, Transport Airplane Directorate, 1601 Lind Avenue, SW., Renton, Washington; or at the Office of the Federal Register, 800 North Capitol Street, NW., suite 700, Washington, DC.

Effective Date

(f) This amendment becomes effective on October 11, 2001.

Issued in Renton, Washington, on August 28, 2001.
Vi L. Lipski,
Manager, Transport Airplane Directorate, Aircraft Certification Service.

[FR Doc. 01-22110 Filed 9-5-01; 8:45 am]

BILLING CODE 4910-13-U